NATIONAL SCIENCE FOUNDATION

NSF-NASA-Astronomy and Astrophysics Advisory Committee #13883; Notice of Meeting

In accordance with the Federal Advisory Committee Act (Pub. L. 92-463, as amended), the National Science Foundation announces the following NSF-NASA-Astronomy and Astrophysics Advisory Committee meeting (#13883):

Date and Time: January 18-19, 2005.

Place: National Science Foundation, 4201 Wilson Boulevard, Room 330, Arlington, VA.

Type of Meeting: Open.

Contact Person: Dr. G. Wayne Van Citters, Director, Division of Astronomical Sciences, Suite 1045, National Science Foundation, 4201 Wilson Blvd., Arlington, VA 22230. Telephone: (703) 292-4908.

Purpose of Meeting: To provide advice and recommendations to the National Science Foundation (NSF) and the National Aeronautics and Space Administration (NASA) on issues within the field of astronomy and astrophysics that are of mutual interest and concern to the two agencies.

Agenda: To hear presentations of current programming by representatives from NSF and NASA; to discuss current and potential areas of cooperation between the two agencies; to formulate recommendations for continued and new areas of cooperation and mechanisms for achieving them.

Dated: December 14, 2004.
Susanne E. Bolton,
Committee Management Office.

[FR Doc. 04-27617 Filed 12-16-04; 8:45 am]

BILLING CODE 9555-01-M